DEPARTMENT OF LABOR

Employment and Training Administration

Proposed Information Collection Request Submitted for Public Comment and Recommendations; Unemployment Insurance (UI) Facilitation of Claimant Reemployment

ACTION: Notice.

SUMMARY: As part of its continuing effort to reduce paperwork and respondent burden, the Department of Labor (DOL) conducts a preclearance consultation program to provide the general public and Federal agencies with an opportunity to comment on proposed and/or continuing collections of information in accordance with the Paperwork Reduction Act of 1995 (PRA95) [44 U.S.C. 3506(c)(2)(A)]. This program helps to ensure that the requested data can be provided in the desired format, reporting burden (time and financial resources) is minimized, collection instruments are clearly understood, and the impact of collection requirements on respondents can be properly assessed.

The Employment and Training Administration (ETA) is soliciting comments concerning the proposed new collection of information on the reemployment of UI benefit recipients. ETA is seeking Office of Management and Budget (OMB) approval under the PRA95 to establish a system to collect data at the state level on the percentage of individuals who become reemployed in the calendar quarter subsequent to the quarter in which they received their first UI payment.

DATES: Submit comments on or before September 7, 2004.

ADDRESSES: Submit comments to Andrew W. Spisak, Office of Workforce Security, Employment and Training Administration, U.S. Department of Labor, Room S-4522, 200 Constitution Avenue, NW., Washington, DC 20210; fax: 202-693-3975; e-mail: spisak.andrew@dol.gov.

FOR FURTHER INFORMATION CONTACT: Andrew W. Spisak, telephone: 202-693-3196 (this is not a toll-free number); fax: 202-693-3975; e-mail: spisak.andrew@dol.gov.

SUPPLEMENTARY INFORMATION:

I. Background

Required by Congress under the Government Performance and Results Act of 1993 (GPRA), the DOL Strategic Plan is an integral part of the budget process. Among the purposes of the GPRA are to improve Federal program effectiveness and public accountability by focusing on program results, service quality, and customer satisfaction.

One of the goals in the fiscal year (FY) 2003—2008 DOL strategic plan—A Secure Workforce—focuses on improving the operational performance and effectiveness of the federal/state UI program. Four performance measures support this strategic goal:

• Make Timely Benefit Payments to UI Claimants

• Detect Overpayments

• Establish Tax Accounts Promptly

• Facilitate the Reemployment of UI Claimants

Data are currently available for measuring performance for three of the indicators; however, data are not available to adequately reflect the degree to which the UI system facilitates the reemployment of UI benefit recipients. For this indicator, ETA proposes to collect data on the rate at which UI beneficiaries become reemployed within the calendar quarter subsequent to the quarter in which they received their first UI payment. This measurement will encourage UI agencies—which share responsibility with all Workforce Investment partners in facilitating the reemployment of UI beneficiaries—to be innovative in the steps they take to facilitate these individuals' reemployment. Insights gained about the combinations of reemployment efforts and UI eligibility conditions that promote the quick return of UI beneficiaries to suitable work will be shared with state UI agencies.

States currently measure the entered employment rates of certain limited categories of job seekers (for example, veterans and UI claimants whose profiles indicate they are in the greatest need of reemployment services) and convey this information through the ETA reporting system. However, no reemployment data are currently collected of the general population of UI beneficiaries. Therefore, during FY 2003, DOL developed and pilot-tested a reemployment rate measure for UI beneficiaries in six states. The results of the pilot are discussed below.

The Measure

ETA carefully considered several options for measuring the reemployment of UI claimants:

• Use currently reported Employment Service data to obtain entered employment data for workforce investment system registrants who were monetarily eligible for UI;

• Crossmatch samples of UI recipients in the Benefit Accuracy Measurement (BAM) (OMB Approval No. 1205-0245, expiring 6/07) survey with state wage record files;

• Crossmatch samples of UI claimants receiving first payments with state wage record files; and

• Crossmatch all UI claimants receiving first payments with state wage record files.

ETA concluded that the most appropriate measure of claimant reemployment is obtained by crossmatching all UI claimants who received a first UI payment during a calendar quarter against state wage record files in the subsequent quarter. This method for measuring the reemployment of UI claimants:

• Is comprehensive;

• Yields reemployment rates that have no sampling variability;

• Should be reasonably easy to obtain because it so closely resembles the wage record crossmatch states currently use for overpayment detection;

• Is similar in concept to Workforce Investment Act outcome measures that use wage record data; and

• Will not require extensive state staff time.

Pilot Description

States participating in the pilot identified UI claimants who received first payments in each quarter of calendar year (CY) 2002 for intrastate state UI claims—including combined wage claims (CWC) and joint State UI/Federal claims (Unemployment Compensation for Federal Employees and Unemployment Compensation for Ex-Servicemembers (OMB Approval No. 1205-0176, expiring 6/06)).

The states then ran computer crossmatches of the Social Security Numbers (SSNs) of the claimants with the UI wage records for each of the two quarters following the quarter of first payment and counted the number of UI benefit recipients who had wages in the subsequent quarters. The one-quarter and two-quarter reemployment rates equal the ratios of total wage record matches in each of the quarters to the number of claimants who receive a first payment.

In order to expedite data collection, only first payments for intrastate claims and crossmatches of intrastate wage records were included in the pilot. For national implementation of this measure, ETA will pursue the technical changes required to include first payments for interstate claims and wage records reported by out-of-state employers in the crossmatch.

Pilot Results

The unadjusted reemployment rates for the six pilot states averaged 55.4 percent for the first quarter after receiving a first payment and 60.8 percent for the second quarter. Reemployment rates ranged from 52.9 percent to 71.9 percent for reemployment in the first subsequent quarter, and from 55.4 percent to 75.1 percent for reemployment in the second subsequent quarter.

These rates were adjusted to take into account those UI benefit recipients who had earnings from temporary or part-time employment during their period of eligibility for UI benefits, referred to as the benefit year. These earnings generally reduce the amount of the claimant's weekly benefit but do not eliminate it. Therefore, these individuals are considered partially unemployed, not reemployed.

Benefit year earnings data are available from the BAM program, a statistical survey designed to estimate the accuracy of paid and denied UI claims. (BAM data are collected from random audits of UI claims conducted by state BAM auditors.) For the six pilot states combined, an estimated 7.1 percent of the claimants had earnings during the quarter after their first payment and 7.9 percent had earnings two quarters after their first payment but were not reemployed.

Applying the adjustment for claimant benefit year earnings, the reemployment rates for the six states combined averaged 51.5 percent for the first quarter after receiving a first payment and 56 percent for the second quarter. Pilot results are summarized in the following table.

Summary of UI Reemployment Measure Pilot Results
State: ALL: First payment cohort | Number of first payments | Number Xmatch hits YYYY.Q+1 | Number of Xmatch YYYY.Q+2 | Run date: Percent of Xmatch hits YYYY.Q+1 | 12/4/2003: Percent of Xmatch hits YYYY.Q+2
2002.Q1 | 666,817 | 394,346 | 426,407 | 59.14 | 63.95
2002.Q2 | 489.168 | 272.458 | 290.960 | 55.70 | 59.48
2002.Q3 | 470.749 | 264.349 | 271.922 | 56.15 | 57.76
2002.Q4 | 531,718 | 264,576 | 323.017 | 49.76 | 60.75
2002 | 2,158,452 | 1,195,729 | 1,312,306 | 55.40 | 60.80
2002 Adjusted |  |  |  | 51.48 | 55.97
Notes to the table:
(1) One state also provided rates based on the number of individuals receiving first payments (unique SSNs in the file of first payments) in addition to the number of first payments. Reemployment rates averaged about 0.2 percentage points higher using this count.
(2) The number of first payments reported by one state includes some interstate claims. This state's interstate population is relatively small compared to its intrastate population, and the state estimates that the effect on the reemployment percentages is less than 1.5 percentage points.

Many factors affect the rate at which UI claimants become reemployed. For example, the average unemployment rates in the six pilot states for the period that the crossmatches were run (CY 2002, 2nd quarter, through CY 2003, 2nd quarter) ranged from 3.7 percent to 7.2 percent. The state with the lowest unemployment rate also had the highest adjusted reemployment rates for both quarters. An initial analysis of the pilot data indicates a close relationship between the reemployment rate in a state and the state's total unemployment rate and exhaustion rate. However, a larger evaluation would need to be conducted to statistically substantiate this relationship. The analysis of the pilot data is available on the ETA Web site at: http://workforcesecurity.doleta.gov/unemploy/reemploypilot.asp.

Although the pilot study collected data for two quarters subsequent to the first payment quarter, ETA proposes to collect this information for only the first subsequent quarter. Pilot results show differences between the reemployment percentages for the first and second quarters of only 5.4 percentage points (unadjusted) and 4.5 percentage points (adjusted). This may indicate that the UI system is most likely to facilitate reemployment of job-ready claimants relatively early in their benefit years. Limiting data collection to a single quarter will also reduce the cost.

II. Desired Focus of Comments

DOL is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

A copy of the proposed information collection request can be obtained by contacting the office listed above in the addressee section of this notice.

III. Current Actions

ETA proposes to: (1) Require State Workforce Agencies (SWAs) to report quarterly data on the number of UI claimants receiving first payments for UI benefits during a calendar quarter and the number of those claimants who have earnings in the next calendar quarter; (2) use these data to construct a reemployment rate to measure the UI program goal of facilitating the reemployment of UI claimants; (3) adjust the reemployment rate for the proportion of claimants who receive earnings for partial employment but are not considered reemployed; and (4) identify and separate the effects of labor market and UI program characteristics on the state's reemployment rate from the efforts and actions of states to facilitate the reemployment of UI claimants.

At least six months prior to implementation, ETA will disseminate to the SWAs the technical specifications needed to implement this data collection system. States will electronically transmit the reports to ETA according to the following schedule.

Quarter in which first payment is issued | Report due to ETA by
1st quarter (January to March) | November 30.
2nd quarter (April to June) | February 28.
3rd quarter (July to September) | May 31.
4th quarter (October to December) | August 31.

ETA will provide states with the resources for startup costs and operation costs for the first year of data collection, as described in the burden cost sections below.

Type of Review: New.

Agency: Employment and Training Administration.

Title: Unemployment Insurance Facilitation of Claimant Reemployment.

Recordkeeping: States are required to follow their state laws regarding public record retention in retaining records for this proposed data collection system.

Affected Public: State Workforce Agencies (SWAs).

Frequency: Quarterly.

Total Respondents: 53 SWAs.

Total Responses: 212 per year (53 SWAs x 4 quarterly reports per year).

Estimated Time Per Response: SWA staff—10 hours.

Total Burden Hours: 2,120 hours.

Total Burden Cost (capital/startup): $53,000 (53 SWAs at $1,000 per SWA).

Total Burden Cost (operating/maintaining): $79,500 (annual) (53 SWAs at $1,500 per SWA).

Comments submitted in response to this request will be summarized and/or included in the request for OMB approval of the information collection request; they will also become a matter of public record.

Signed in Washington, DC, on June 28, 2004.
Emily Stover DeRocco,
Assistant Secretary for Employment and Training.

[FR Doc. 04-15174 Filed 7-2-04; 8:45 am]

BILLING CODE 4510-30-P